DEPARTMENT OF COMMERCE

National Oceanic and Atmospheric Administration

RIN 0648-XD826

Marine Mammals; File No. 17967

AGENCY: National Marine Fisheries Service (NMFS), National Oceanic and Atmospheric Administration (NOAA), Commerce.

ACTION: Notice; receipt of application.

SUMMARY: Notice is hereby given that the Minnesota Zoological Gardens, 13000 Zoo Boulevard, Apple Valley, MN 55124, has applied in due form for a permit to conduct research on and enhancement of Hawaiian monk seals (Neomonachus schauinslandi) in captivity.

DATES: Written, telefaxed, or email comments must be received on or before April 22, 2015.

ADDRESSES: The application and related documents are available for review by selecting “Records Open for Public Comment” from the “Features” box on the Applications and Permits for Protected Species (APPS) home page, https://apps.nmfs.noaa.gov, and then selecting File No. 17967 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 17967 in the subject line of the email comment.

Those individuals requesting a public hearing should submit a written request to the Chief, Permits and Conservation Division at the address listed above. The request should set forth the specific reasons why a hearing on this application would be appropriate.

FOR FURTHER INFORMATION CONTACT: Amy Sloan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226).

The Minnesota Zoological Gardens (MZG) proposes to maintain up to eight non-releasable Hawaiian monk seals for research and enhancement purposes. This would include five female monk seals (currently being held at Sea World San Antonio) and any other captive or future non-releasable female monk seals taken under separate permit. The five seals currently at Sea World were collected from the wild for rehabilitation under an enhancement permit and deemed non-releasable due to an eye disease of unknown etiology; maintaining these seals in captivity would prevent the potential transmission of disease to the wild population. Proposed research on the captive seals includes the following: (1) Annually, blood samples and nasal swabs taken during routine health assessments will be analyzed for presence of West Nile virus, canine distemper virus, and phocine distemper virus in seals previously vaccinated; (2) various sedatives will be tested on the seals during routine health assessments to inform use in the wild population; and (3) seals may be used in research projects authorized under separate permits (e.g., vaccination testing, remotely administrating sedatives, new capture techniques). MZG proposes to maintain the seals for the duration of their lives and will continue public awareness on the status of the species through education and public observation of the seals. The permit is requested for the maximum 5-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 17, 2015.
Julia Harrison,
Chief, Permits and Conservation Division, Office of Protected Resources, National Marine Fisheries Service.

[FR Doc. 2015-06449 Filed 3-20-15; 8:45 am]

BILLING CODE 3510-22-P